DEPARTMENT OF HOUSING AND URBAN DEVELOPMENT

[Dockets Nos. FR-4800-FA-05, FR-4900-FA-07, and FR-4950-FA-02]

Announcement of Funding Awards for the Brownfields Economic Development Initiative (BEDI) Fiscal Years 2003, 2004, and 2005

AGENCY: Office of the Assistant Secretary for Community Planning and Development, HUD.

ACTION: Notice of funding awards.

SUMMARY: In accordance with section 102(a)(4)(C) of the Department of Housing and Urban Development Reform Act of 1989, this announcement notifies the public of past funding decisions made by the Department in competitions for funding under the Notice of Funding Availability (NOFA) for the Brownfields Economic Development Initiative (BEDI). This announcement contains the names of the awardees and the amounts of the awards made available by HUD.

FOR FURTHER INFORMATION CONTACT: Robert Duncan, Associate Deputy Assistant Secretary, Office of Economic Development, Office of Community Planning and Development, 451 Seventh Street, SW., Room 7140, Washington, DC 20410-7000; telephone (202) 708-3773 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Brownfields Economic Development Initiative (BEDI) is administered by the Office of Economic Development under the Assistant Secretary for Community Planning and Development. The Office of Economic Development administers HUD's ongoing grant programs to assist local governments, nonprofit organizations and the private sector in economic development efforts.

BEDI was enacted in section 108(q) of the Housing and Community Development Act of 1974, as amended. Eligible applicants include units of general local government eligible for assistance under the Community Development Block Grant (CDBG) program, as well as urban counties that are eligible under the CDBG program. Each unit of general local government or CDBG-eligible urban county must use its BEDI award to enhance the security of a loan guaranteed by HUD under section 108 of the Housing and Community Development Act of 1974, as amended, for the same project, or to improve the viability of a project financed with the section 108-guaranteed loan. The BEDI program provides each grantee up to $2,000,000 for the redevelopment of abandoned, idled or underutilized industrial or commercial facilities where expansion or redevelopment is complicated by environmental contamination as defined by the NOFA in each fiscal year.

On April 25, 2003 (67 FR 14135) HUD published a Super Notice of Funding Availability (SuperNOFA) announcing the availability of approximately $29,500,000 in FY 2003 funds for the BEDI program. On May 14, 2004 (69 FR 27331) HUD published a SuperNOFA announcing the availability of approximately $25,352,500 in FY 2004 funds for the BEDI program. On March 21, 2005 (70 FR 13950) HUD published a SuperNOFA announcing the availability of approximately $24,458,130 for the BEDI program, an amount subsequently reduced by $10,000,000 in the Congressional appropriation for BEDI in FY 2006. The Department reviewed, evaluated and scored the applications received based on the criteria in the SuperNOFA. As a result, HUD funded the applications announced below, and, in accordance with section 102(a)(4)(C) of the Department of Housing and Urban Development Reform Act of 1989 (103 Stat. 1987, U.S.C. 3545), the Department is publishing details concerning the recipients of funding awards, as set forth below.

Dated: August 3, 2006.
Nelson R. Bregon,
General Deputy Assistant Secretary for Community Planning and Development.

Fiscal Year 2003 Funding Awards for the Brownfields Economic Development Initiative Program
Recipient | State | Amount
Anchorage | AK | $2,000,000
Tempe | AZ | 1,000,000
El Monte | CA | 1,300,000
Los Angeles | CA | 750,000
Montebello | CA | 2,000,000
Sacramento | CA | 2,000,000
San Diego | CA | 700,000
Stockton | CA | 2,000,000
Whittier | CA | 750,000
Lawrence | MA | 2,000,000
Springfield | MO | 1,200,000
Greensboro | NC | 2,000,000
Perth Amboy | NJ | 1,374,285
Geneva | NY | 500,000
New York | NY | 1,670,000
Syracuse | NY | 750,000
Pittsburgh | PA | 900,000
Pittsburgh | PA | 1,100,000
Burrillville | RI | 910,000
Memphis | TN | 2,000,000
Danville | VA | 500,000
Milwaukee | WI | 2,000,000
Total |  | 29,404,285

Fiscal Year 2004 Funding Awards for the Brownfields Economic Development Initiative Program
Recipient | State | Amount
Alameda | CA | $800,000
Los Angeles | CA | 1,050,000
San Diego | CA | 225,000
Sacramento | CA | 2,000,000
San Jose | CA | 2,000,000
Berkeley | CA | 2,000,000
Alameda County | CA | 300,000
Attleboro | MA | 1,900,000
Dutchess County | NY | 300,000
Cuyahoga County | OH | 2,000,000
Portland | OR | 2,000,000
Chester County (Coatesville) | PA | 1,000,000
Harrisburg | PA | 1,500,000
Montgomery County | PA | 1,500,000
Allentown | PA | 2,000,000
Chester County (E. Whiteland) | PA | 2,000,000
Seattle | WA | 2,000,000
Total |  | 24,575,000

Fiscal Year 2005 Funding Awards for the Brownfields Economic Development Intiative Program
Recipient | State | Amount
Bakersfield | CA | $750,000
Los Angeles | CA | 950,000
Berkeley | CA | 1,767,630
Denver | CO | 937,130
Denver | CO | 1,062,870
Cocoa | FL | 347,500
Hillsborough County (Tampa) | FL | 1,500,000
Concord | NC | 1,000,000
Camden | NJ | 2,000,000
Eugene | OR | 2,000,000
Reading | PA | 1,000,000
Charleston County (N. Charleston) | SC | 1,430,000
Total |  | 14,745,130

[FR Doc. E6-13381 Filed 8-15-06; 8:45 am]

BILLING CODE 4210-67-P